DEPARTMENT OF ENERGY

Federal Energy Regulatory Commission

[Project No. 9282-032]

Notice of Application for Transfer of License, and Soliciting Comments and Motions To Intervene

March 4, 2009.

In the matter of: Winslow H. MacDonald, Trustee, Heidi B. Robichaud, Successor Trustee, Milford Elm Street Trust, 37 Wilton Road, Milford LLC, and 282 Route 101, LLC.

On February 2, 2009, Winslow H. MacDonald, Trustee, Heidi B. Robichaud, Successor Trustee, and Milford Elm Street Trust (collectively, transferors) and 37 Wilton Road, Milford LLC and 282 Route 101 LLC (collectively, transferees) filed an application, for transfer of license of the Pine Valley Dam Project, located on the Souhegan River in Hillsborough County, New Hampshire.

Applicants seek Commission approval to transfer the license for the Pine Valley Dam from the transferors to the transferees.

Applicant Contact: Mr. Mark Prolman, Prolman Realty, 100 Elm Street, Nashua, NH 03060.

FERC Contact: Robert Bell, (202) 502-6062.

Deadline for filing comments and motions to intervene: 30 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-9282-032) in the docket number field to access the document. For assistance, call toll-free 1-866-208-3372.

Kimberly D. Bose,
Secretary.

[FR Doc. E9-5253 Filed 3-11-09; 8:45 am]

BILLING CODE 6717-01-P